DEPARTMENT OF ENERGY

Federal Energy Regulatory Commission

Combined Notice of Filings #1

Take notice that the Commission received the following electric corporate filings:

Docket Numbers: EC14-123-000.

Applicants: Osage Wind, LLC.

Description: Application for Authorization Under Section 203 of the Federal Power Act, Request for Shortened Notice Period, Expedited Consideration and Confidential Treatment of Osage Wind, LLC.

Filed Date: 8/4/14.

Accession Number: 20140804-5212.

Comments Due: 5 p.m. ET 8/25/14.

Take notice that the Commission received the following electric rate filings:

Docket Numbers: ER10-2211-003.

Applicants: Vandolah Power Company, L.L.C.

Description: Compliance to Baseline Tariff to be effective 8/6/2014.

Filed Date: 8/5/14.

Accession Number: 20140805-5067.

Comments Due: 5 p.m. ET 8/26/14.

Docket Numbers: ER10-2218-003.

Applicants: Orlando CoGen Limited, L.P.

Description: Compliance to Baseline Tariff to be effective 8/6/2014.

Filed Date: 8/5/14.

Accession Number: 20140805-5064.

Comments Due: 5 p.m. ET 8/26/14.

Docket Numbers: ER11-2370-004.

Applicants: Cambria CoGen Company.

Description: Cambria CoGen Company submits tariff filing per 35: Compliance to Baseline Tariff to be effective 8/6/2014.

Filed Date: 8/5/14.

Accession Number: 20140805-5084.

Comments Due: 5 p.m. ET 8/26/14.

Docket Numbers: ER13-298-003.

Applicants: New York Independent System Operator, Inc.

Description: NYISO Compliance-Eliminate Reference Level Cap on 10-minute Reserve to be effective 8/25/2014.

Filed Date: 8/5/14.

Accession Number: 20140805-5115.

Comments Due: 5 p.m. ET 8/26/14.

Docket Numbers: ER13-2318-003; ER13-1430-003; ER10-2743-004; ER12-637-002; ER10-1936-003; ER13-1561-003; ER12-995-002; ER10-1892-004; ER10-1886-004; ER10-2793-004; ER10-1854-005; ER13-2317-003; ER10-2755-005; ER10-2739-008; ER11-3320-005; ER10-1872-004; ER14-2499-001; ER13-2319-003; ER10-2751-004; ER10-2744-006; ER10-2740-006; ER10-1859-004; ER13-2316-003; ER10-2742-004; ER10-1631-005; ER11-3321-005; ER14-19-003.

Applicants: All Dams Generation, LLC, Arlington Valley Solar Energy II, LLC, Bluegrass Generation Company, L.L.C., Calhoun Power Company, LLC, Carville Energy LLC, Centinela Solar Energy, LLC, Cherokee County Cogeneration Partners, LLC, Columbia Energy LLC, Decatur Energy Center, LLC, DeSoto County Generating Company, LLC, Doswell Limited Partnership, Lake Lynn Generation, LLC, Las Vegas Power Company, LLC, LS Power Marketing, LLC, LSP University Park, LLC, Mobile Energy LLC, Oneta Power, LLC, PE Hydro Generation, LLC, Renaissance Power, L.L.C., Riverside Generating Company, L.L.C., Rocky Road Power, LLC, Santa Rosa Energy Center, LLC, Seneca Generation, LLC, Tilton Energy LLC, University Park Energy, LLC, Wallingford Energy LLC, West Deptford Energy, LLC.

Description: Notification of Change in Status of the LS Power Development, LLC subsidiaries.

Filed Date: 8/4/14.

Accession Number: 20140804-5214.

Comments Due: 5 p.m. ET 8/25/14.

Docket Numbers: ER14-2593-000.

Applicants: RE Columbia Two LLC.

Description: RE Columbia Two LLC—Certificate of Concurrence Filing to be effective 9/7/2014.

Filed Date: 8/4/14.

Accession Number: 20140804-5189.

Comments Due: 5 p.m. ET 8/25/14.

Docket Numbers: ER14-2594-000.

Applicants: RE Camelot LLC.

Description: RE Camelot LLC—Certificate of Concurrence to be effective 9/7/2014.

Filed Date: 8/5/14.

Accession Number: 20140805-5000.

Comments Due: 5 p.m. ET 8/26/14.

Docket Numbers: ER14-2595-000.

Applicants: PJM Interconnection, L.L.C.

Description: PJM Interconnection, L.L.C. submits tariff filing per 35.13(a)(2)(iii: Queue Position # Y2-042 ?Service Agreement No. 3915 to be effective 7/7/2014.

Filed Date: 8/5/14.

Accession Number: 20140805-5068.

Comments Due: 5 p.m. ET 8/26/14.

Docket Numbers: ER14-2596-000.

Applicants: NSTAR Electric Company, ISO New England Inc.

Description: NSTAR Electric Company submits tariff filing per 35.13(a)(2)(iii: ISO-NE., MBTA and NSTAR Local Service Agreement TSA-NSTAR-001 to be effective 5/1/2014.

Filed Date: 8/5/14.

Accession Number: 20140805-5074.

Comments Due: 5 p.m. ET 8/26/14.

Docket Numbers: ER14-2597-000.

Applicants: Town of Hanover

Description: Town of Hanover submits tariff filing per 35.12: Town of Hanover MBR Application to be effective 10/15/2014.

Filed Date: 8/5/14.

Accession Number: 20140805-5076.

Comments Due: 5 p.m. ET 8/26/14.

Docket Numbers: ER14-2598-000.

Applicants: Midcontinent Independent System Operator, Inc.

Description: Midcontinent Independent System Operator, Inc. submits tariff filing per 35.13(a)(2)(iii: 2014-08-05_SA 2682 MidAmerican-MidAmerican Amended GIA (R39) to be effective 8/6/2014.

Filed Date: 8/5/14.

Accession Number: 20140805-5077.

Comments Due: 5 p.m. ET 8/26/14.

Docket Numbers: ER14-2599-000.

Applicants: Midcontinent Independent System Operator, Inc.

Description: Midcontinent Independent System Operator, Inc. submits tariff filing per 35.13(a)(2)(iii: 2014-06-30 Bi-Directional EARS filing to be effective 3/1/2015.

Filed Date: 8/5/14.

Accession Number: 20140805-5104.

Comments Due: 5 p.m. ET 8/26/14.

Docket Numbers: ER14-2600-000.

Applicants: Southwest Power Pool, Inc.

Description: 1166R21 Oklahoma Municipal Power Authority NITSA and NOA to be effective 7/1/2014.

Filed Date: 8/5/14.

Accession Number: 20140805-5121.

Comments Due: 5 p.m. ET 8/26/14.

Docket Numbers: ER14-2601-000.

Applicants: Ameren Illinois Company.

Description: Ameren Illinois Company submits tariff filing per 35.13(a)(2)(iii: Letter Agreement Between AIC, IMEA, and Flora to be effective 7/7/2014.

Filed Date: 8/5/14.

Accession Number: 20140805-5137.

Comments Due: 5 p.m. ET 8/26/14.

Take notice that the Commission received the following public utility holding company filings:

.

Docket Numbers: PH14-5-001.

Applicants: LS Power Development, LLC.

Description: LS Power Development, LLC submits Notice of Non-Material Change in Fact of FERC 65-B Waiver Notification..

Filed Date: 8/4/14.

Accession Number: 20140804-5209.

Comments Due: 5 p.m. ET 8/25/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 5, 2014.
Nathaniel J. Davis, Sr.,
Deputy Secretary.

[FR Doc. 2014-19022 Filed 8-11-14; 8:45 am]

BILLING CODE 6717-01-P